DEPARTMENT OF THE INTERIOR

Bureau of Land Management

[NV-930-1430-EU; N-66188]

Notice of Realty Action: Nevada

AGENCY: Bureau of Land Management, Interior.

ACTION: Direct sale of Public Lands in Eureka County, Nevada.

SUMMARY: The following described lands near the town of Eureka, Eureka County, Nevada, have been examined and found suitable for disposal by direct sale, at the appraised fair market value, to Homestake Mining Company of Eureka, Nevada. Authority for the sale is in Sections 203 and 209 of the Federal Land Policy and Management Act of October 21,1976 (43 U.S.C. 1701,1713, 1719).

Mount Diablo Principal Meridian, Nevada

T. 19 N., R. 53 E.,

Sec. 03, Lots 1-4, S½S½

Sec. 04, SE¼SE¼

Sec. 09, E½E½, W½NE¼, E½NW¼, NE¼SW¼, NW¼SE¼

Sec. 10, Lots 1-4, N½, W½SW¼, E½SE¼, NW¼SE¼

Sec. 11, W½SW¼

Sec. 14, NW¼NW¼

Sec. 15, Lots 1-6

Sec. 16, NE¼NE¼

Totaling 1644.94 acres.

The above-described lands are hereby classified for disposal in accordance with section 7 of the Taylor Grazing Act, 43 U.S.C. 315f, Act of June 28, 1934, as amended and Executive Order 6910.

DATES: Comments must be submitted within 45 days of the date this Notice is published in the Federal Register.

ADDRESSES: Bureau of Land Management, Battle Mountain Field Office, 50 Bastian Road, Battle Mountain, Nevada 89820.

FOR FURTHER INFORMATION CONTACT: Chuck Lahr, Realty Specialist, at the above address or at (775) 635-4000.

SUPPLEMENTARY INFORMATION: This parcel of land near Eureka, Nevada, is being offered by direct sale to Homestake Mining Company. The land is not required for Federal purposes. The proposed action is consistent with the objectives, goals, and decisions of the Shoshone/Eureka Resource Management Plan.

The United States will retain the subsurface mineral estate associated with the subject parcel. The parcel is currently utilized by Homestake for surface operations, including mining and ore processing, at their Ruby Hill Mine. The parcel is covered in its entirety by federal mining claims controlled by Homestake. The Ruby Hill Mine is an active gold mine. Surface ownership of the subject parcel will allow Homestake to optimize mining operations and better manage closure and reclamation issues associated with mine operations. The potential exists for the discovery of additional locatable minerals, primarily gold, on the subject parcel.

The proponent will have 30 days from the date of receiving the sale offer to accept the offer and to submit a deposit of 30 percent of the purchase price and money for publication costs. The purchaser must submit the rest of the purchase price, within 90 days from the date the sale offer is received. Payments may be by certified check, postal money order, bank draft, or cashier's check made payable to the U.S. Department of the Interior—BLM. Failure to meet conditions established for this sale will void the sale and any money received for the sale will be forfeited.

The patent, when issued, will contain the following reservations to the United States:

1. A right-of-way for ditches and canals constructed by authority of the United States, Act of August 30, 1890, (43 U.S.C. 945);

2. All mineral deposits shall be reserved to the United States, together with the right to prospect for, mine, and remove such deposits under applicable laws and regulations as the Secretary of the Interior may prescribe.

And will be subject to:

1. Right-of-way N-48618 for a buried water pipeline held by the County of Eureka.

2. All other valid existing rights.

Publication of this Notice in the Federal Register segregates the subject lands from all appropriations under the public land laws, except sale under the Federal Land Policy and Management Act of 1976. The segregation will terminate upon issuance of the patent or 270 days from date of publication, whichever occurs first.

For a period of 45 days from the date this Notice is published in the Federal Register, interested parties may submit comments to the Battle Mountain Field Manager at the above address. Any adverse comments will be reviewed by the State Director, who may sustain, vacate, or modify this realty action and issue a final determination. In the absence of timely filed objections this realty action will become the final determination of the Department of the Interior. The land will not be offered for sale until at least sixty days after the date this notice was published in the Federal Register.

Dated: August 28, 2002.
Joshua Alpert,
Acting Assistant Field Manager, Nonrenewable Resources.

[FR Doc. 02-25661 Filed 10-8-02; 8:45 am]

BILLING CODE 4310-HC-P